DEPARTMENT OF AGRICULTURE

Submission for OMB Review; Comment Request

June 9, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by July 15, 2015 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Peppers from the Republic of Korea.

OMB Control Number: 0579-0282.

Summary of Collection: Under the Plant Protection Act (PPA) (7 U.S.C. 7701—et seq.), the Secretary of Agriculture is authorized to carry out operations or measures to detect, eradicate, suppress, control, prevent, or retard the spread of plant pests new to the United States or not known to be widely distributed throughout the United States. Regulations authorized by the PPA concerning the importation of fruits and vegetables into the United States from certain parts of the world are contained in “Subpart Fruits and Vegetables” (7 CFR 319.56 through 319.56-72). The Animal and Plant Health Inspection Service (APHIS) fruits and vegetables regulations allow the importation of peppers from the Republic of Korea under certain conditions into the continental United States. As a condition of entry, the peppers must be grown in approved insect-proof, pest-free greenhouses and packed in pest-exclusionary packinghouses.

Need and Use of the Information: Each consignment of pepper from the Republic of Korea must be accompanied by a phytosanitary certificate of inspection with a declaration issued by the National Plant Quarantine Service of Korea officials stating the peppers were grown in greenhouses in accordance with the regulations in 7 CFR 319-56-42 and were inspected and found free of certain plant pests. Failing to collect this information would cripple APHIS' ability to ensure that peppers from Korea are not carrying plant pests and would cause millions of dollars in damage to U.S. agriculture.

Description of Respondents: Federal Government (Foreign); Business or other for-profit.

Number of Respondents: 2.

Frequency of Responses: Reporting: On occasion.

Total Burden Hours: 4.

Animal and Plant Health Inspection Service.

Title: Nomination Request Form; Animal Disease Training.

OMB Control Number: 0579-0353.

Summary of Collection: The Animal Health Protection Act of 2002 is the primary Federal law governing the protection of animal health. The law gives the Secretary of Agriculture broad authority to detect, control, eradicate pests or diseases of livestock or poultry. The Animal and Plant Health Inspection Service (APHIS) is responsible for administering regulations intended to prevent the introduction of animal diseases into the United States. The Professional Development Staff (PDS) of Veterinary Services within APHIS provides vital training to private veterinarians and State, Tribal, Industry, and university personnel which prepare them for animal disease response. To determine the need and demand for such courses, PDS must collect information from individuals who wish to attend training events facilitated by PDS.

Need and Use of the Information: Information will be collected from private veterinarians, State, Tribal, industry, and university personnel who desire to attend a PDS-sponsored training event. Prior to every PDS-facilitated event, respondents will submit a completed Nomination/Registration Request Form (VS Form 1-5) to the Regional Training Coordinators. Names, work addresses, work phone numbers, work email addresses, agency/organization affiliation, and job title as well as supervisor and region approval is needed to produce participant rosters once course selections are made.

Without the collection of this information, PDS cannot conduct training events to educate Federal, State and private veterinarians on eradication of diseases and sample collection.

Description of Respondents: Business or other for-profit; State, Local or Tribal Government.

Number of Respondents: 350.

Frequency of Responses: Recordkeeping; Reporting: On occasion.

Total Burden Hours: 116.

Ruth Brown,
Departmental Information Collection Clearance Officer.

[FR Doc. 2015-14457 Filed 6-12-15; 8:45 am]

BILLING CODE 3410-34-P